DEPARTMENT OF TRANSPORTATION

Federal Aviation Administration

14 CFR Part 39

[Docket No. FAA-2017-0474; Product Identifier 2016-NM-096-AD; Amendment 39-19007; AD 2017-17-17]

RIN 2120-AA64

Airworthiness Directives; Viking Air Limited (Type Certificate Previously Held by Bombardier, Inc.; Canadair Limited) Airplanes

AGENCY: Federal Aviation Administration (FAA), Department of Transportation (DOT).

ACTION: Final rule.

SUMMARY: We are superseding Airworthiness Directive (AD) 2011-03-08, which applied to certain Bombardier, Inc., Model CL-215-1A10 (CL-215), CL-215-6B11 (CL-215T Variant), and CL-215-6B11 (CL-415 Variant) airplanes. AD 2011-03-08 required an inspection to determine the number of flight cycles accumulated by certain accumulators installed on the airplane, and repetitive inspections of the accumulators for cracks, and replacement if necessary. This AD retains those inspections and the accumulator replacement if necessary, and adds a new terminating action to address the identified unsafe condition. This AD was prompted by the development of a terminating action for the repetitive inspections. We are issuing this AD to address the unsafe condition on these products.

DATES: This AD is effective October 11, 2017.

The Director of the Federal Register approved the incorporation by reference of certain publications listed in this AD as of October 11, 2017.

The Director of the Federal Register approved the incorporation by reference of certain other publications listed in this AD as of March 14, 2011 (76 FR 6536, February 7, 2011).

ADDRESSES: For service information identified in this final rule, contact Viking Air Limited, 1959 de Havilland Way, Sidney, British Columbia V8L 5V5, Canada; telephone +1-250-656-7227; fax +1-250-656-0673; email acs-technical.publications@vikingair.com; Internet http://www.vikingair.com. You may view this referenced service information at the FAA, Transport Standards Branch, 1601 Lind Avenue SW., Renton, WA. For information on the availability of this material at the FAA, call 425-227-1221. It is also available on the Internet at http://www.regulations.gov by searching for and locating Docket No. FAA-2017-0474.

Examining the AD Docket

You may examine the AD docket on the Internet at http://www.regulations.gov by searching for and locating Docket No. FAA-2017-0474; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Cesar A. Gomez, Aerospace Engineer, Airframe and Mechanical Systems Section, FAA, New York ACO Branch, 1600 Stewart Avenue, Suite 410, Westbury, NY 11590; telephone 516-228-7318; fax 516-794-5531.

SUPPLEMENTARY INFORMATION:

Discussion

We issued a notice of proposed rulemaking (NPRM) to amend 14 CFR part 39 to supersede AD 2011-03-08, Amendment 39-16592 (76 FR 6536, February 7, 2011) (“AD 2011-03-08”). AD 2011-03-08 applied to certain Bombardier, Inc., Model CL-215-1A10 (CL-215), CL-215-6B11 (CL-215T Variant), and CL-215-6B11 (CL-415 Variant) airplanes. The NPRM published in the Federal Register on May 18, 2017 (82 FR 22766). The NPRM was prompted by the development of a terminating action (relocation of the affected accumulators, and incorporation of new airworthiness limitations), which addresses the unsafe condition. The NPRM proposed to continue to require an inspection to determine the number of flight cycles accumulated by applicable accumulators (i.e., brake, aileron, elevator, and rudder accumulators) installed on the airplane, repetitive ultrasonic inspections of the accumulators for cracks, and replacement of any accumulator in which a crack is detected. The NPRM also proposed to require a new terminating action for the repetitive inspections. We are issuing this AD to prevent failure of the screw cap or end cap of certain accumulators, which could result in impact damage to various components, potentially resulting in fuel spillage, uncommanded flap movement, or loss of aileron control.

Transport Canada Civil Aviation (TCCA), which is the aviation authority for Canada, has issued Canadian Airworthiness Directive CF-2009-42R2, dated May 30, 2016 (referred to after this as the Mandatory Continuing Airworthiness Information, or ”the MCAI”), to correct an unsafe condition for certain Viking Air Limited Model CL-215-1A10 (CL-215), CL-215-6B11 (CL-215T Variant), and CL-215-6B11 (CL-415 Variant) airplanes. The MCAI states:

Seven cases of on-ground hydraulic accumulator screw cap or end cap failure have been experienced on CL-600-2B19 (CRJ) aeroplane, resulting in loss of the associated hydraulic system and high-energy impact damage to adjacent systems and structure. To date, the lowest number of flight cycles accumulated at the time of failure has been 6991.

Although there have been no failures to date on any CL-215-1A10 (CL-215) or CL-215-6B11 (CL-215T and CL-415) aeroplane, similar accumulators, Part Number (P/N) 08-8423-010 (MS28700-3), to those installed on the CL-600-2B19, are installed on the aeroplane models listed in the Applicability section of this [Canadian] AD.

A detailed analysis of the systems and structure in the potential line of trajectory of a failed screw cap/end cap for each accumulator has been conducted. It has identified that the worst-case scenarios would be impact damage to various components, potentially resulting in fuel spillage, uncommanded flap movement, or loss of aileron control.

This [Canadian] AD mandates repetitive [ultrasonic] inspections of the accumulators for cracks and replacement of any accumulator in which a crack is detected.

Revision 1 of this [Canadian] AD clarified the text of the [Canadian] AD, including the P/N of the affected accumulators.

This revision provides the terminating action [relocation of affected accumulators and incorporation of new airworthiness limitations] to this [Canadian] AD. It also modifies the applicability range for the CL-215-1A10 (CL-215); the CL-215 is out of production and the last aeroplane produced was serial number 1125.

You may examine the MCAI in the AD docket on the Internet at http://www.regulations.gov by searching for and locating Docket No. FAA-2017-0474.

Comments

We gave the public the opportunity to participate in developing this AD. We received no comments on the NPRM or on the determination of the cost to the public.

Explanation of Changes Made to This Final Rule

We have revised this final rule to identify the legal name of the manufacturer as published in the most recent type certificate data sheet for the affected airplane models.

In the proposed AD, we inadvertently listed the wrong publication dates for service information in two places. Table 4 to paragraph (o) of the proposed AD referred to Bombardier Service Bulletin 215-4470, Revision 1, dated December 13, 2013. We have corrected the publication date for this document to June 27, 2014, in this AD. Additionally, paragraph (r)(1)(iii) of the proposed AD referred to Bombardier Service Bulletin 215-3158, dated March 28, 2012. We have corrected the publication date for this document to March 21, 2012, in this AD.

Conclusion

We reviewed the available data and determined that air safety and the public interest require adopting this AD with the changes described previously and minor editorial changes. We have determined that these changes:

• Are consistent with the intent that was proposed in the NPRM for correcting the unsafe condition; and

• Do not add any additional burden upon the public than was already proposed in the NPRM.

Related Service Information Under 1 CFR Part 51

Bombardier, Inc., has issued the following service information:

• Bombardier Service Bulletin 215-552, Revision 2, dated June 18, 2015. This service information describes procedures to relocate the aileron hydraulic accumulator aft of its current location.

• Bombardier Service Bulletin 215-3158, Revision 2, dated April 15, 2014; and Bombardier Service Bulletin 215-4423, Revision 5, dated March 17, 2016. This service information describes procedures to relocate the aileron, elevator, and rudder hydraulic accumulators aft and outboard of their current locations. These documents are distinct since they apply to different airplane models.

• Bombardier Service Bulletin 215-557, Revision 1, dated June 27, 2014; Bombardier Service Bulletin 215-3182, Revision 1, dated June 27, 2014; and Bombardier Service Bulletin 215-4470, Revision 1, dated June 27, 2014. This service information describes procedures to establish the number of flight hours for each accumulator and determine if it has been used on another type of aircraft. These documents are distinct since they apply to different airplane models.

• Bombardier Temporary Revision 5-56, dated December 13, 2013; Bombardier Temporary Revision 295/7, dated December 13, 2013; Bombardier Temporary Revision LLC-1, dated December 13, 2013; and Bombardier Temporary Revision LLC-3, dated December 13, 2013. This service information provides a 10,000-hour accumulator life limitation for certain accumulators. These documents are distinct since they apply to different airplane models.

This service information is reasonably available because the interested parties have access to it through their normal course of business or by the means identified in the ADDRESSES section.

Costs of Compliance

We estimate that this AD affects 7 airplanes of U.S. registry.

We estimate the following costs to comply with this AD:

Estimated Costs
Action | Labor cost | Parts cost | Cost per product | Cost on U.S. operators
Ultrasonic inspection (retained action from AD 2011-03-08) | 7 work-hours × $85 per hour = $595 | $0 | $595 | $4,165
Relocation, determination of accumulator hours and usage, and maintenance or inspection program revision (new action) | 56 work-hours × $85 per hour = $4,760 | 0 | 4,760 | 33,320

We estimate the following costs to do any necessary replacement that would be required based on the results of the inspection. We have no way of determining the number of aircraft that might need this replacement.

On-Condition Costs
Action | Labor cost | Parts cost | Cost per product
Replacement of cracked part (retained action from AD 2011-03-08) | 6 work-hours × $85 per hour = $510 | $4,055 | $4,565

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-03-08, Amendment 39-16592 (76 FR 6536, February 7, 2011), and adding the following new AD:

2017-17-17 Viking Air Limited (Type Certificate Previously Held by Bombardier, Inc.; Canadair Limited): Amendment 39-19007; Docket No. FAA-2017-0474; Product Identifier 2016-NM-096-AD.

(a) Effective Date

This AD is effective October 11, 2017.

(b) Affected ADs

This AD replaces AD 2011-03-08, Amendment 39-16592 (76 FR 6536, February 7, 2011) (“AD 2011-03-08”).

(c) Applicability

This AD applies to Viking Air Limited (Type Certificate previously held by Bombardier, Inc.; Canadair Limited) airplanes, certificated in any category, as identified in paragraphs (c)(1) through (c)(3) of this AD.

(1) Model CL-215-1A10 (CL-215) airplanes, serial numbers 1001 through 1125 inclusive.

(2) Model CL-215-6B11 (CL-215T Variant) airplanes, serial numbers 1056 through 1125 inclusive.

(3) Model CL-215-6B11 (CL-415 Variant) airplanes, serial numbers 2001 through 2990 inclusive.

(d) Subject

Air Transport Association (ATA) of America Code 29, Hydraulic power.

(e) Reason

This AD was prompted by reports of on-ground hydraulic accumulator screw cap or end cap failure resulting in a loss of the associated hydraulic system and high-energy impact damage to adjacent systems and structure. We are issuing this AD to prevent failure of the screw cap or end cap, which could result in impact damage to various components, potentially resulting in fuel spillage, uncommanded flap movement, or loss of aileron control.

(f) Compliance

Comply with this AD within the compliance times specified, unless already done.

(g) Retained Inspection To Determine Flight Cycles, With No Changes

This paragraph restates the requirements of paragraph (g) of AD 2011-03-08, with no changes. Within 50 flight hours after March 14, 2011 (the effective date of AD 2011-03-08), inspect to determine the number of flight cycles accumulated by each of the applicable accumulators (i.e., brake, aileron, elevator, and rudder accumulators) having part number 08-8423-010 (MS28700-3) installed on the airplane. A review of airplane maintenance records is acceptable in lieu of this inspection if the number of flight cycles accumulated can be conclusively determined from that review.

(h) Retained Initial Ultrasonic Inspection for Model CL-215-1A10 (CL-215) and CL-215-6B11 (CL-215T Variant) Airplanes, With No Changes

This paragraph restates the requirements of paragraph (h) of AD 2011-03-08, with no changes. For Model CL-215-1A10 (CL-215) and CL-215-6B11 (CL-215T Variant) airplanes: Do an ultrasonic inspection for cracking of the accumulator at the applicable time specified in paragraph (h)(1) or (h)(2) of this AD, in accordance with Part B of the Accomplishment Instructions of the applicable service bulletin listed in table 1 to paragraphs (h), (i), and (k) of this AD.

Table 1 to Paragraphs (h), (i), and (k) of This AD—Service Bulletins
For model— | Use bombardier service bulletin—
CL-215-1A10 (CL-215) | 215-541, Revision 1, dated March 12, 2010.
CL-215-6B11 (CL-215T Variant) | 215-3155, Revision 1, dated March 12, 2010.
CL-215-6B11 (CL-415 Variant) | 215-4414, Revision 1, dated March 12, 2010.

(1) For any accumulator on which the inspection required by paragraph (g) of this AD shows an accumulation of more than 875 total flight cycles, or on which it is not possible to determine the number of total accumulated flight cycles, do the inspection within 125 flight cycles after March 14, 2011 (the effective date of AD 2011-03-08).

(2) For any accumulator on which the inspection required by paragraph (g) of this AD shows an accumulation of 875 total flight cycles or fewer, do the inspection before the accumulation of 1,000 flight cycles on the accumulator.

(i) Retained Initial Ultrasonic Inspection for Model CL-215-6B11 (CL-415 Variant) Airplanes, With No Changes

This paragraph restates the requirements of paragraph (i) of AD 2011-03-08, with no changes. For Model CL-215-6B11 (CL-415 Variant) airplanes, do an ultrasonic inspection for cracking of the accumulator at the applicable time specified in paragraph (i)(1) or (i)(2) of this AD, in accordance with Part B of the Accomplishment Instructions of the applicable service bulletin listed in table 1 to paragraphs (h), (i), and (k) of this AD.

(1) For any accumulator on which the inspection required by paragraph (g) of this AD shows an accumulation of more than 750 flight cycles, or on which it is not possible to determine the number of total accumulated flight cycles, do the inspection within 250 flight cycles after March 14, 2011 (the effective date of AD 2011-03-08).

(2) For any accumulator on which the inspection required by paragraph (g) of this AD shows an accumulation of 750 total flight cycles or fewer, do the inspection before the accumulation of 1,000 flight cycles on the accumulator.

(j) Retained Repetitive Inspections, With New Terminating Action

This paragraph restates the requirements of paragraph (j) of AD 2011-03-08, with new terminating action. If no cracking is found during any inspection required by paragraph (h) or (i) of this AD, repeat the inspection thereafter at intervals not to exceed 750 flight cycles until the actions required by paragraphs (n), (o), and (p) of this AD have been done.

(k) Retained Replacement of Cracked Accumulators and Repetitive Inspections, With New Terminating Action

This paragraph restates the requirements of paragraph (k) of AD 2011-03-08, with new terminating action. If any cracking is found during any inspection required by paragraph (h) or (i) of this AD, before further flight, replace the accumulator with a serviceable accumulator, in accordance with Part B of the Accomplishment Instructions of the applicable service bulletin listed in table 1 to paragraphs (h), (i), and (k) of this AD. Doing the replacement does not end the inspection requirements of paragraphs (h) and (i) of this AD. Repeat the inspections required by paragraph (h) or (i) of this AD, as applicable, at intervals not to exceed 750 flight cycles until the actions required by paragraphs (n), (o), and (p) of this AD have been done.

(l) Retained Parts Installation Limitation, With No Changes

This paragraph restates the parts installation limitation in paragraph (l) of AD 2011-03-08, with no changes. As of March 14, 2011 (the effective date of AD 2011-03-08), no person may install an accumulator, part number 08-8423-010 (MS28700-3), on any airplane unless the accumulator has been inspected in accordance with the requirements of paragraph (h) or (i) of this AD.

(m) Retained Credit for Previous Actions, With No Changes

This paragraph restates the credit provided in paragraph (m) of AD 2011-03-08, with no changes. Inspections accomplished before March 14, 2011 (the effective date of AD 2011-03-08), in accordance with the applicable service bulletin listed in table 2 to paragraph (m) of this AD are considered acceptable for compliance with the corresponding action specified in paragraph (h), (i), (j), or (k) of this AD.

Table 2 to Paragraph (m) of This AD—Credit Service Bulletins
For model— | Use Bombardier Service Bulletin—
CL-215-1A10 (CL-215) | 215-541, dated July 9, 2009.
CL-215-6B11 (CL-215T Variant) | 215-3155, dated July 9, 2009.
CL-600-6B11 (CL-415 Variant) | 215-4414, dated July 9, 2009.

(n) New Relocation of Affected Accumulators

Within 12 months after the effective date of this AD, relocate affected hydraulic accumulators, in accordance with the Accomplishment Instructions of the applicable Bombardier service bulletin specified in table 3 to paragraph (n) of this AD.

Table 3 to Paragraph (n) of This AD—Service Information for Relocating Accumulators
For model— | Affected accumulators— | Use Service Bulletin—
CL-215-1A10 (CL-215) | Aileron, if installed | Bombardier Service Bulletin 215-552, Revision 2, dated June 18, 2015.
CL-215-6B11 (CL-215T Variant) | Aileron, rudder, and elevator | Bombardier Service Bulletin 215-3158, Revision 2, dated April 15, 2014.
CL-215-6B11 (CL-415 Variant) | Aileron, rudder, and elevator | Bombardier Service Bulletin 215-4423, Revision 5, dated March 17, 2016.

(o) New Establishment of Flight Hours on the Accumulator, Determination of Previous Use of the Accumulator, and Replacement if Necessary

Within 12 months after the effective date of this AD, establish the number of flight hours for each accumulator, and determine whether any accumulator has been used in service on another type of airplane other than Model CL-215-1A10 (CL-215), CL-215-6B11 (CL-215T Variant), or CL-215-6B11 (CL-415 Variant), in accordance with the Accomplishment Instructions in the applicable Bombardier service bulletin specified in table 4 to paragraph (o) of this AD. If any accumulator is found that has been in service on another type of airplane other than Model CL-215-1A10 (CL-215), CL-215-6B11 (CL-215T Variant), or CL-215-6B11 (CL-415 Variant), replace the accumulator within 50 flight hours after determining an affected accumulator is installed.

Table 4 to Paragraph (o) of This AD—Establishment of Number of Flight Hours on the Accumulator
For model— | Use Service Bulletin—
CL-215-1A10 (CL-215) | Bombardier Service Bulletin 215-557, Revision 1, dated June 27, 2014 (applicable to MS28700-3 accumulator).
CL-215-6B11 (CL-215T Variant) | Bombardier Service Bulletin 215-3182, Revision 1, dated June 27, 2014.
CL-215-6B11 (CL-415 Variant) | Bombardier Service Bulletin 215-4470, Revision 1, dated June 27, 2014.

(p) New Airworthiness Limitations

Within 30 days after the effective date of this AD, revise the maintenance or inspection program, as applicable, to incorporate the 10,000-hour accumulator life limitation specified in the applicable Time Limits/Maintenance Checks (TLMC) Manual temporary revisions (TRs) listed in table 5 to paragraph (p) of this AD. The initial compliance time for accomplishing the replacement of the accumulator is within the limitation specified in the applicable TR specified in table 5 to paragraph (p) of this AD, or within 30 days after the effective date of this AD, whichever occurs later.

Table 5 to Paragraph (p) of This AD—Airworthiness Limitations
For model— | Comply with Bombardier TLMC manual— | Bombardier TR No.— | Dated—
CL-215-1A10 (CL-215) | PSP 295 | 295/7 | December 13, 2013.
CL-215-6B11 (CL-215T Variant) | PSP 395 | LLC-3 | December 13, 2013.
CL-215-6B11 (CL-215T Variant) | PSP 395-1 | LLC-1 | December 13, 2013.
CL-215-6B11 (CL-415 Variant) | PSP 495 | 5-56 | December 13, 2013.

(q) No Alternative Actions and Intervals

After accomplishment of the revision required by paragraph (p) of this AD, no alternative actions (e.g., inspections) or intervals may be used unless the actions and intervals are approved as an alternative method of compliance (AMOC) in accordance with the procedures specified in paragraph (s)(1) of this AD.

(r) Credit for Previous Actions

(1) This paragraph provides credit for actions required by paragraph (n) of this AD, if those actions were performed before the effective date of this AD using any applicable service information specified in paragraphs (r)(1)(i) through (r)(1)(ix) of this AD.

(i) Bombardier Service Bulletin 215-552, dated December 16, 2013.

(ii) Bombardier Service Bulletin 215-552, Revision 1, dated September 12, 2014.

(iii) Bombardier Service Bulletin 215-3158, dated March 21, 2012.

(iv) Bombardier Service Bulletin 215-3158, Revision 1, dated December 16, 2013.

(v) Bombardier Service Bulletin 215-4423, Revision NC, dated April 4, 2011.

(vi) Bombardier Service Bulletin 215-4423, Revision 1, dated September 28, 2011.

(vii) Bombardier Service Bulletin 215-4423, Revision 2, dated May 30, 2012.

(viii) Bombardier Service Bulletin 215-4423, Revision 3, dated December 16, 2013.

(ix) Bombardier Service Bulletin 215-4423, Revision 4, dated December 3, 2015.

(2) This paragraph provides credit for actions required by paragraph (o) of this AD, if those actions were performed before the effective date of this AD using any applicable service information specified in paragraphs (r)(2)(i) through (r)(2)(iii) of this AD.

(i) Bombardier Service Bulletin 215-557, Revision NC, dated December 13, 2013.

(ii) Bombardier Service Bulletin 215-3182, Revision NC, dated December 13, 2013.

(iii) Bombardier Service Bulletin 215-4470, Revision NC, dated December 13, 2013.

(s) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or Transport Canada Civil Aviation (TCCA); or Viking Air Limited's TCCA Design Approval Organization (DAO). If approved by the DAO, the approval must include the DAO-authorized signature.

(t) Related Information

(1) Refer to Mandatory Continuing Airworthiness Information (MCAI) Canadian Airworthiness Directive CF-2009-42R2, dated May 30, 2016, for related information. This MCAI may be found in the AD docket on the Internet at http://www.regulations.gov by searching for and locating Docket No. FAA-2017-0474.

(2) For more information about this AD, contact Cesar A. Gomez, Aerospace Engineer, Airframe and Mechanical Systems Section, FAA, New York ACO Branch, 1600 Stewart Avenue, Suite 410, Westbury, NY 11590; telephone 516-228-7318; fax 516-794-5531.

(3) Service information identified in this AD that is not incorporated by reference is available at the addresses specified in paragraphs (u)(5) and (u)(6) of this AD.

(u) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on October 11, 2017.

(i) Bombardier Service Bulletin 215-552, Revision 2, dated June 18, 2015.

(ii) Bombardier Service Bulletin 215-557, Revision 1, dated June 27, 2014.

(iii) Bombardier Service Bulletin 215-3158, Revision 2, dated April 15, 2014.

(iv) Bombardier Service Bulletin 215-3182, Revision 1, dated June 27, 2014.

(v) Bombardier Service Bulletin 215-4423, Revision 5, dated March 17, 2016.

(vi) Bombardier Service Bulletin 215-4470, Revision 1, dated June 27, 2014.

(vii) Bombardier Temporary Revision 5-56, dated December 13, 2013.

(viii) Bombardier Temporary Revision 295/7, dated December 13, 2013.

(ix) Bombardier Temporary Revision LLC-1, dated December 13, 2013.

(x) Bombardier Temporary Revision LLC-3, dated December 13, 2013.

(4) The following service information was approved for IBR on March 14, 2011 (76 FR 6536, February 7, 2011).

(i) Bombardier Service Bulletin 215-541, Revision 1, dated March 12, 2010.

(ii) Bombardier Service Bulletin 215-3155, Revision 1, dated March 12, 2010.

(iii) Bombardier Service Bulletin 215-4414, Revision 1, dated March 12, 2010.

(5) For service information identified in this AD, contact Viking Air Limited, 1959 de Havilland Way, Sidney, British Columbia V8L 5V5, Canada; telephone +1-250-656-7227; fax +1-250-656-0673; email acs-technical.publications@vikingair.com; Internet http://www.vikingair.com.

(6) You may view this service information at the FAA, Transport Standards Branch, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on August 16, 2017.
Jeffrey E. Duven,
Director, System Oversight Division, Aircraft Certification Service.

[FR Doc. 2017-17838 Filed 9-5-17; 8:45 am]

BILLING CODE 4910-13-P